SMALL BUSINESS ADMINISTRATION

Region 3—Washington Metropolitan Area District Office; Advisory Council; Public Meeting

The U.S. Small Business Administration (SBA) Washington Metropolitan Area District Office will host a public meeting on Tuesday, January 31, 2006 from 9 a.m. until 11:30 a.m. at the Washington Metropolitan Area District Office, located at 740 15th Street, NW., 3rd Floor, Washington, DC 20005. Seating is limited and is available on a first come, first served basis. The focus of the meeting includes a review/update of the status of the district's FY 2006 goals, update on new initiatives and other matters that may be presented by members and staff of the U.S. Small Business Administration Washington Metropolitan Area District Office or others present.

Anyone wishing to make an oral presentation to the Board must contact Joseph P. Loddo, District Director and Designated Federal Official for the SBA Washington Metropolitan Area District Advisory Council, in writing by letter or fax no later than Monday, January 16, 2006 in order to be put on the agenda. Requests for oral comments must be in writing to: Joseph P. Loddo, District Director, U.S. Small Business Administration, Washington Metropolitan Area District Office, 740 15th Street, NW., 3rd Floor, Washington, DC 20005. Telephone (202) 272-0345 or FAX (202) 272-0270.

Matthew K. Becker,
Committee Management Officer.

[FR Doc. E5-7206 Filed 12-9-05; 8:45 am]

BILLING CODE 8025-01-P